DEPARTMENT OF THE INTERIOR

Fish and Wildlife Service

Availability of Draft Revised Environmental Assessment, Management Plan, and Implementation Guidance for Take of Nestling American Peregrine Falcons in the Contiguous United States and Alaska for Falconry

AGENCY: Fish and Wildlife Service, Interior.

ACTION: Notice of availability.

SUMMARY: This notice is to announce the availability of a Draft Revised Environmental Assessment, Management Plan, and Implementation Guidance document on take of nestling American Peregrine Falcons (Falco peregrinus anatum) for falconry. We published a final Environmental Assessment in April 2001. The draft Revised Environmental Assessment, Management Plan, and Implementation Guidance was done to correct an error in the modeling on which the earlier Environmental Assessment was based and to use population data since delisting to assess the effects of take of nestlings for falconry.

DATES: Comments on the Environmental Assessment, Management Plan, and Implementation Guidance are due by June 30, 2003.

ADDRESSES: The document is available from, and written comments about it should be submitted to, Chief, Division of Migratory Bird Management, U.S. Fish and Wildlife Service, 4401 North Fairfax Drive, Room 634, Arlington, Virginia 22203-1610. The fax number for a request or for comments is 703-358-2272. You can request a copy of the Environmental Assessment by calling 703-358-1714. The Assessment also is available on the Division of Migratory Bird Management web pages at http://migratorybirds.fws.gov.

FOR FURTHER INFORMATION CONTACT: Dr. George Allen, Division of Migratory Bird Management, U.S. Fish and Wildlife Service, at 703-358-1714.

SUPPLEMENTARY INFORMATION: The American peregrine falcon (Falco peregrinus anatum) occurs throughout much of North America from the subarctic boreal forests of Alaska and Canada south to Mexico. American peregrine falcons nest from central Alaska, central Yukon Territory, and northern Alberta and Saskatchewan, east to the Maritimes and south (excluding coastal areas north of the Columbia River in Washington and British Columbia) throughout western Canada and the United States to Baja California, Sonora, and the highlands of central Mexico. American peregrine falcons that nest in subarctic areas generally winter in South America. Those that nest at lower latitudes exhibit variable migratory behavior; and some do not migrate.

Peregrine falcons declined precipitously in North America following World War II, a decline attributed largely to organochlorine pesticides, mainly DDT, applied in the United States and Canada. Because of the decline, the American peregrine was listed as endangered in 1970 (35 FR 16047).

Recovery goals for American peregrine falcons in the United States were substantially exceeded in some areas, and in August 1999 the American peregrine was removed from the List of Endangered and Threatened Wildlife and Plants (64 FR 46541). Anticipating delisting, in June 1999 the States, through the International Association of Fish and Wildlife Agencies, proposed allowing take of nestling American peregrines for falconry.

In an October 1999 Federal Register notice (64 FR 53686), we stated that we would consider a conservative take of nestling peregrines from healthy populations of American peregrine falcons in the western U.S. and Alaska. We published a Final Environmental Assessment in April 2001. The draft Revised Environmental Assessment was done to correct an error in the modeling on which the earlier Environmental Assessment was based. In the models the breeding age for American peregrines was inadvertently set at two years of age, rather than three. Though some peregrines breed as early as age two, to be conservative we intended to model breeding first at age three. Corrected modeling and evaluation of recent American peregrine falcon population data in the western United States indicated that the adult mortality figure used for comparisons in the original Environmental Assessment was too high. Therefore, we based analyses in the revised Environmental Assessment on updated American peregrine falcon population, productivity, and mortality information for the western U.S. population.

The nesting population in States west of 100° longitude in 1998 was at least 1091 pairs. Based on recent data provided by the States, we believe that since delisting the American peregrine falcon population in the western United States has grown. At a minimum, we believe the population to have been 10% greater in 2001 than it was in 1998. We also determined that recent productivity in the western United States has averaged about 1.51 young per nesting attempt.

To determine an appropriate value to use for adult mortality in the assessment, we used post-delisting data from Arizona, California, Colorado, Idaho, Montana, New Mexico, Oregon, Washington, and Wyoming. Population data from those States, combined with modeling of population change, indicated that adult mortality since delisting has been 10.1% per year.

We considered six alternatives to address potential take of nestling American peregrine falcons in the western United States and Alaska. The No Action Alternative would mean that no legal take of peregrine falcons for falconry can occur. We also evaluated allowing take of 5%, 10%, 15%, and 20% of annual production in states west of 100° longitude. The sixth alternative we evaluated was lifting the current restriction on take by falconry permittees in 11 contiguous western States and Alaska. The preferred alternative is to allow take of 5% of the nestlings produced in Western States, with take at the discretion of each State. The 5% level of take would allow continued good population growth if population density does not affect reproduction or survival.

Dated: March 20, 2003.
Paul R. Schmidt,
Assistant Director, Migratory Birds and State Programs.

[FR Doc. 03-10524 Filed 4-28-03; 8:45 am]

BILLING CODE 4310-55-P